DEPARTMENT OF ENERGY

Federal Energy Regulatory Commission

Combined Notice of Filings #1

Take notice that the Commission received the following exempt wholesale generator filings:

Docket Numbers: EG21-119-000.

Applicants: West Medway II, LLC.

Description: Notice of Self Certification of Exempt Wholesale Generator Status of West Medway II, LLC.

Filed Date: 4/2/21.

Accession Number: 20210402-5131.

Comments Due: 5 p.m. ET 4/23/21.

Take notice that the Commission received the following electric rate filings:

Docket Numbers: ER21-1250-000.

Applicants: Tumbleweed Solar, LLC.

Description: Supplement to March 2, 2021 Certificates of Concurrence.

Filed Date: 3/15/21.

Accession Number: 20210315-5422.

Comments Due: 5 p.m. ET 4/5/21.

Docket Numbers: ER21-1373-001.

Applicants: ES 1A Group 2 Opco, LLC.

Description: Tariff Amendment: Amendment to Market-Based Rate Application to be effective 5/12/2021.

Filed Date: 4/2/21.

Accession Number: 20210402-5140.

Comments Due: 5 p.m. ET 4/23/21.

Docket Numbers: ER21-1376-001.

Applicants: ES 1A Group 3 Opco, LLC.

Description: Tariff Amendment: Amendment to Market-Based Rate Application to be effective 5/12/2021.

Filed Date: 4/2/21.

Accession Number: 20210402-5143.

Comments Due: 5 p.m. ET 4/23/21.

Docket Numbers: ER21-1586-000.

Applicants: Midcontinent Independent System Operator, Inc.

Description: § 205(d) Rate Filing: 2021-04-01_SA 3377 METC-Assembly Solar 2nd Rev GIA (J796) to be effective 3/18/2021.

Filed Date: 4/1/21.

Accession Number: 20210401-5177.

Comments Due: 5 p.m. ET 4/22/21.

Docket Numbers: ER21-1587-000.

Applicants: GridLiance Heartland LLC.

Description: § 205(d) Rate Filing: GLH Non-MISO OATT C-Corp Conversion Filing to be effective 5/31/2021.

Filed Date: 4/1/21.

Accession Number: 20210401-5227.

Comments Due: 5 p.m. ET 4/22/21.

Docket Numbers: ER21-1588-000.

Applicants: GridLiance High Plains LLC.

Description: § 205(d) Rate Filing: GHP Distribution C-Corp Conversion to be effective 5/31/2021.

Filed Date: 4/1/21.

Accession Number: 20210401-5232.

Comments Due: 5 p.m. ET 4/22/21.

Docket Numbers: ER21-1589-000.

Applicants: CPI USA North Carolina LLC.

Description: Tariff Cancellation: Notice of Cancellation of MBR Tariff and Tariff ID to be effective 6/1/2021.

Filed Date: 4/1/21.

Accession Number: 20210401-5233.

Comments Due: 5 p.m. ET 4/22/21.

Docket Numbers: ER21-1590-000.

Applicants: GridLiance High Plains LLC.

Description: § 205(d) Rate Filing: GHP SPP Transmission C-Corp Conversion to be effective 5/31/2021.

Filed Date: 4/1/21.

Accession Number: 20210401-5235.

Comments Due: 5 p.m. ET 4/22/21.

Docket Numbers: ER21-1591-000.

Applicants: PJM Interconnection, L.L.C.

Description: § 205(d) Rate Filing: Real time Value Market Rules to be effective 5/31/2021.

Filed Date: 4/1/21.

Accession Number: 20210401-5241.

Comments Due: 5 p.m. ET 4/22/21.

Docket Numbers: ER21-1592-000.

Applicants: GridLiance West LLC.

Description: § 205(d) Rate Filing: 4-1 GLW C-Corp Conversion to be effective 5/31/2021.

Filed Date: 4/1/21.

Accession Number: 20210401-5250.

Comments Due: 5 p.m. ET 4/22/21.

Docket Numbers: ER21-1593-000.

Applicants: GridLiance High Plains LLC.

Description: § 205(d) Rate Filing: GHP OATT C-Corp Conversion to be effective 5/31/2021.

Filed Date: 4/1/21.

Accession Number: 20210401-5262.

Comments Due: 5 p.m. ET 4/22/21.

Docket Numbers: ER21-1594-000.

Applicants: Pegasus Wind A, LLC.

Description: Tariff Cancellation: Pegasus Wind A, LLC Notice of Cancellation of MBR Tariff to be effective 4/2/2021.

Filed Date: 4/1/21.

Accession Number: 20210401-5299.

Comments Due: 5 p.m. ET 4/22/21.

Docket Numbers: ER21-1595-000.

Applicants: Public Service Company of New Mexico.

Description: Formula Rate Post-employment Benefits Other than Pensions filing of Public Service Company of New Mexico.

Filed Date: 4/1/21.

Accession Number: 20210401-5335.

Comments Due: 5 p.m. ET 4/22/21.

Docket Numbers: ER21-1596-000.

Applicants: Midcontinent Independent System Operator, Inc., Michigan Electric Transmission Company, LLC.

Description: § 205(d) Rate Filing: 2021-04-02_SA 3132 METC-Wolverine T-T 2nd Rev Appendix to be effective 3/3/2021.

Filed Date: 4/2/21.

Accession Number: 20210402-5023.

Comments Due: 5 p.m. ET 4/23/21.

Docket Numbers: ER21-1597-000.

Applicants: Midcontinent Independent System Operator, Inc., American Electric Power Service Corporation, Northern Indiana Public Service Company LLC.

Description: § 205(d) Rate Filing: 2021-04-02_SA 1524 I&M-NIPSCO Interconnection Agreement 4th Rev to be effective 3/5/2021.

Filed Date: 4/2/21.

Accession Number: 20210402-5027.

Comments Due: 5 p.m. ET 4/23/21.

Docket Numbers: ER21-1598-000.

Applicants: Midcontinent Independent System Operator, Inc.

Description: § 205(d) Rate Filing: 2021-04-02_SA 2853 3rd Rev Certificate of Concurrence IMTCO-NIPSCO Agreement to be effective 3/5/2021.

Filed Date: 4/2/21.

Accession Number: 20210402-5029.

Comments Due: 5 p.m. ET 4/23/21.

Docket Numbers: ER21-1599-000.

Applicants: Public Service Company of Colorado.

Description: Formula Rate Post-Retirement Benefits Other than Pensions filing of Public Service Company of Colorado.

Filed Date: 4/1/21.

Accession Number: 20210401-5498.

Comments Due: 5 p.m. ET 4/22/21.

Docket Numbers: ER21-1600-000.

Applicants: Public Service Company of Colorado.

Description: § 205(d) Rate Filing: Burlington February 2021 Fuel Cost Adjustment _Eff. 03-12-2021 to be effective 3/12/2021.

Filed Date: 4/2/21.

Accession Number: 20210402-5040.

Comments Due: 5 p.m. ET 4/23/21.

Docket Numbers: ER21-1601-000.

Applicants: Southern California Edison Company.

Description: § 205(d) Rate Filing: Amended LGIA SA No. 214 Rabbitbrush to be effective 6/2/2021.

Filed Date: 4/2/21.

Accession Number: 20210402-5045.

Comments Due: 5 p.m. ET 4/23/21.

Docket Numbers: ER21-1602-000.

Applicants: Southern California Edison Company.

Description: § 205(d) Rate Filing: Amended LGIA SA No. 216 Chaparral Solar to be effective 6/2/2021.

Filed Date: 4/2/21.

Accession Number: 20210402-5051.

Comments Due: 5 p.m. ET 4/23/21.

Docket Numbers: ER21-1603-000.

Applicants: Southern California Edison Company.

Description: § 205(d) Rate Filing: Amended LGIA SA No. 219 Marvel to be effective 6/2/2021.

Filed Date: 4/2/21.

Accession Number: 20210402-5054.

Comments Due: 5 p.m. ET 4/23/21.

Docket Numbers: ER21-1604-000.

Applicants: Southern California Edison Company.

Description: § 205(d) Rate Filing: Amended LGIA SA No. 222 RE Crimson to be effective 6/2/2021.

Filed Date: 4/2/21.

Accession Number: 20210402-5057.

Comments Due: 5 p.m. ET 4/23/21.

Docket Numbers: ER21-1605-000.

Applicants: Southern California Edison Company.

Description: § 205(d) Rate Filing: Amended LGIA SA No. 206 Willow Springs 3 to be effective 6/2/2021.

Filed Date: 4/2/21.

Accession Number: 20210402-5073.

Comments Due: 5 p.m. ET 4/23/21.

Docket Numbers: ER21-1606-000.

Applicants: Southern California Edison Company.

Description: § 205(d) Rate Filing: Amended LGIA SA No. 228 Pastoria Solar to be effective 6/2/2021.

Filed Date: 4/2/21.

Accession Number: 20210402-5096.

Comments Due: 5 p.m. ET 4/23/21.

Docket Numbers: ER21-1607-000.

Applicants: Southern California Edison Company.

Description: § 205(d) Rate Filing: Amended LGIA SA No. 237 Aurora Solar to be effective 6/2/2021.

Filed Date: 4/2/21.

Accession Number: 20210402-5107.

Comments Due: 5 p.m. ET 4/23/21.

Docket Numbers: ER21-1608-000.

Applicants: Southern California Edison Company.

Description: § 205(d) Rate Filing: Amended LGIA SA No. 243 Terra-Gen to be effective 6/2/2021.

Filed Date: 4/2/21.

Accession Number: 20210402-5114.

Comments Due: 5 p.m. ET 4/23/21.

Docket Numbers: ER21-1609-000.

Applicants: Southern California Edison Company.

Description: § 205(d) Rate Filing: Amended LGIA SA No. 245 50LW 8me LLC Bellefield to be effective 6/2/2021.

Filed Date: 4/2/21.

Accession Number: 20210402-5118.

Comments Due: 5 p.m. ET 4/23/21.

Docket Numbers: ER21-1610-000.

Applicants: Southern California Edison Company.

Description: § 205(d) Rate Filing: Amended LGIA SA No. 249 20SD 8ME LLC Rexford Solar to be effective 6/2/2021.

Filed Date: 4/2/21.

Accession Number: 20210402-5125.

Comments Due: 5 p.m. ET 4/23/21.

Docket Numbers: ER21-1611-000.

Applicants: Southern California Edison Company.

Description: § 205(d) Rate Filing: Amended LGIA SA No. 256 sPower Baldy Mesa to be effective 6/2/2021.

Filed Date: 4/2/21.

Accession Number: 20210402-5138.

Comments Due: 5 p.m. ET 4/23/21.

Docket Numbers: ER21-1612-000.

Applicants: Georgia Power Company.

Description: Initial rate filing: SR Cedar Springs Affected System Construction Agreement (GPAS 015) Filing to be effective 2/1/2021.

Filed Date: 4/2/21.

Accession Number: 20210402-5150.

Comments Due: 5 p.m. ET 4/23/21.

Docket Numbers: ER21-1613-000.

Applicants: Alabama Power Company.

Description: Initial rate filing: Cedar Springs Solar Affected System Upgrade Agreement Filing to be effective 3/18/2021.

Filed Date: 4/2/21.

Accession Number: 20210402-5152.

Comments Due: 5 p.m. ET 4/23/21.

Docket Numbers: ER21-1614-000.

Applicants: Georgia Power Company.

Description: Initial rate filing: Cedar Springs Affected System Upgrade Agreement Filing to be effective 3/18/2021.

Filed Date: 4/2/21.

Accession Number: 20210402-5153.

Comments Due: 5 p.m. ET 4/23/21.

Docket Numbers: ER21-1615-000.

Applicants: Mississippi Power Company.

Description: Initial rate filing: Cedar Springs Solar Affected System Upgrade Agreement Filing to be effective 3/18/2021.

Filed Date: 4/2/21.

Accession Number: 20210402-5155.

Comments Due: 5 p.m. ET 4/23/21.

Docket Numbers: ER21-1617-000.

Applicants: Edwards Solar Line I, LLC.

Description: Baseline eTariff Filing: Certificates of Concurrence to Facilities Use Agreements to be effective 6/1/2021.

Filed Date: 4/2/21.

Accession Number: 20210402-5203.

Comments Due: 5 p.m. ET 4/23/21.

Docket Numbers: ER21-1618-000.

Applicants: Sanborn Solar Line I, LLC.

Description: Baseline eTariff Filing: Certificates of Concurrence to Facilities Use Agreements to be effective 6/1/2021.

Filed Date: 4/2/21.

Accession Number: 20210402-5222.

Comments Due: 5 p.m. ET 4/23/21.

Take notice that the Commission received the following electric securities filings:

Docket Numbers: ES21-35-000.

Applicants: NextEra Energy Transmission MidAtlantic Indiana, Inc.

Description: Application Under Section 204 of the Federal Power Act for Authorization to Issue Securities, et al. of NextEra Energy Transmission MidAtlantic Indiana, Inc.

Filed Date: 4/2/21.

Accession Number: 20210402-5243.

Comments Due: 5 p.m. ET 4/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2021.
Nathaniel J. Davis, Sr.,
Deputy Secretary.

[FR Doc. 2021-07395 Filed 4-9-21; 8:45 am]

BILLING CODE 6717-01-P